NATIONAL SCIENCE FOUNDATION

Subcommittee on Global Change Research; Draft Report Availability

AGENCY: National Science Foundation.

ACTION: Notice of the availability of draft report for public comment.

SUMMARY: On behalf of the Subcommittee on Global Change Research (SGCR) of the Committee on Environment and Natural Resources of the National Science and Technology Council (NSTC), the National Science Foundation (NSF) announces the availability of the draft version of the National Assessment Synthesis Report for a 60-day public comment period (June 12 through August 11, 2000). The National Assessment's goal is to analyze and evaluate what is known about the potential consequences of climate variability and change for the Nation, in the context of other pressures on the public, the environment, and the Nation's resources. The National Assessment Synthesis Team (NAST) was formed in 1998 under the Federal Advisory Committee Act and was charged with, among other responsibilities, integrating key findings from the regional and sectoral analyses, augmented as appropriate with additional analyses and material from the scientific literature. The NAST prepared the report to address questions of importance to stakeholders and the Nation. The draft report is titled Climate Change Impacts on the United States: The Potential Consequences of Climate Variability and Change. The report consists of an Overview and a Foundation document that contains 19 chapters detailing and documenting the findings presented in the Overview. A list of chapters making up the draft NAST report is included with this notice. The comments received will be considered by the NAST in the preparation of the final version of its report. Although the report has already undergone extensive peer-review, this is still a draft version of the report and it should not be definitively quoted or cited as it is still undergoing review and is likely to be changed based on comments received. Due to its length and the extensive use of color graphics in parts of the report, the report is available for review primarily over the Worldwide Web. Information about how to access and download copies of the relevant chapters and the Overview report is available at the Web site of the Global Change Research Information Office (GCRIO) at http://www.gcrio.org/National Assessment/. The Web site also provides information on how to submit comments on the draft. For those who cannot access the report over the Web, one copy is available for public inspection weekdays during normal business hours at the library of the National Science Foundation in Arlington, VA. Appointments can be made by calling 703-306-0658.

DATES: Reviewer comments on the draft report of the NAST must be received at the postal or email address indicated below on or before August 11, 2000.

ADDRESSES: Review comments should be formatted based on the guidelines provided by GCRIO upon notification of how to access the report. Review comments should be submitted via email over the Internet as a Microsoft Word or WordPerfect attachment using a separate file for the Overview report and for each chapter of the Foundation report that is reviewed. Review comments should be emailed to napubcmt@usgcrp.gov. If email submission is not possible, review comments may be submitted via mail to: National Assessment Comments, Office of the U.S. Global Change Research Program, 400 Virginia Avenue, SW, Suite 750, Washington, DC 20024. When submitting comments by mail, please provide comments both as hardcopy and on a 3.5″ DS/HD disk (either Mac or IBM format) as a text file.

FOR FURTHER INFORMATION CONTACT: National Assessment Review Coordinator, Office of the U.S. Global Change Research Program, Suite 750, 400 Virginia Avenue, SW, Washington, DC 20024; or telephone 202-488-8630, fax at 202-488-8681, or send an email to office@usgcrp.gov.

SUPPLEMENTARY INFORMATION:

I. Background

The 1990 Global Change Research Act (PL 101-606) that established the US Global Change Research Program (USGCRP) required the program to conduct periodic assessments that would: Integrate and interpret the findings of USGCRP; analyze trends in global change over the next 25 to 100 years; analyze the effects of global change on the natural environment, agriculture, energy, land and water resources, transportation, human health and welfare, human social systems, and biological diversity; and discuss associated scientific uncertainties. Responsibility for undertaking the assessment was vested in the NSTC.

In 1998, the President's Science Advisor, acting in his capacity as executive secretary of the NSTC, requested that the SGCR conduct the first national assessment of the consequences of global climate change and variability. The SGCR established the NAST, which is a 14-member FACA-chartered committee established on behalf of the SGCR by the NSF. The NAST developed the plan for the Assessment and it was approved by the SGCR and the NSTC. The National Assessment process was designed to be broadly inclusive, drawing on inputs from academia, government, the public and private sectors, and interested citizens through a distributed set of regional and sectoral activities. Among other responsibilities, the NAST has been responsible for preparing the National Assessment Synthesis Report and providing overall intellectual guidance on the Assessment.

II. Review Process

Drafts of the National Assessment Synthesis Report have undergone two rounds of technical peer review. In the first round that took place in November and December of 1999, over 500 experts were asked to review the Overview report plus one to four chapters of the Foundation report for technical and scientific accuracy. Review drafts were also sent to federal agency representatives, all members of the Synthesis Team, and the chairs of all regional and sectoral teams. Over 300 technical reviews of the Overview and individuals chapters were received. In the second round that took place in March and April, about two dozen additional experts were asked to review the report as a whole.

The technical review process has been overseen by a small panel of eminent persons from the private and public sectors that has been assembled under the auspices of the President's Council of Advisors on Science and Technology (PCAST). This special panel has assured a representative mix of reviewers and the responsiveness of the NAST to the technical comments received. In addition to the outside technical review, the report was provided to the federal agency members of the SGCR for comment as part of the overall review process.

The SGCR is now responsible for coordinating a public comment period on this draft version of the National Assessment Synthesis Report. This notice announces the availability of this report for public comment by experts, interested organizations and individuals, and the public. Comments that are provided will be evaluated, integrated, and used, as appropriate, in the revision of this draft of the report. An information sheet providing specific requests for formatting submissions of comments is available on the Web site. All comments must indicate who is submitting the comments. The emphasis should be on providing detailed recommendations on the Overview and/or on specific chapters of the Foundation report so that changes can be considered that address the comment. To be most useful, comments should be specific in suggesting alternative wording or other changes to the text of a particular paragraph or chapter and, where appropriate, offer supporting information and peer-reviewed references supporting the proposed changes. Comments on the overall tone, internal consistency, and scientific validity of the Overview and chapters and comments expressing the reasons for agreement or disagreement with specific major points are also invited.

The materials available for review include the draft versions of the Overview report and Foundation chapters. Documents available for review include the following:

Overview Report

Foundation Report (listing is of subject matter of chapter)

1. Climate Change

2. Vegetation and Biochemistry Scenarios

3. Socioeconomic Change

4. Northeast

5. Southeast

6. Midwest

7. Great Plains

8. West

9. Pacific Northwest

10. Alaska

11. Islands

12. Native Peoples and Homelands

13. Agriculture

14. Water Resources

15. Human Health

16. Coastal Areas and Marine Resources

17. Forests

18. Conclusions

19. Research Needs

III. Public Availability of Comments

Subsequent to the receipt and collation of the comments, the collection of comments received will be available for public inspection weekdays during normal business hours at the library of the National Science Foundation in Arlington, VA. Appointments can be made by calling 703-306-0658.

Dated: June 6, 2000.
Karen J. York,
Human Resource and Management Specialist.

[FR Doc. 00-14732 Filed 6-9-00; 8:45 am]

BILLING CODE 7555-01-M